DEPARTMENT OF HEALTH AND HUMAN SERVICES

Centers for Disease Control and Prevention

[60-Day-13-0728]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to Ron Otten, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Title: National Notifiable Disease Surveillance System (NNDSS), OMB Control No. 0920-0728, Revision Exp. 01/31/2014, Office of Surveillance, Epidemiology, and Laboratory Services (OSELS), Public Health Surveillance and Informatics Program Office (PHSIPO) {Proposed} Centers for Disease Control and Prevention (CDC).

Background and Brief Description

The Public Health Services Act (42 U.S.C. 241) authorizes CDC to disseminate nationally notifiable condition information. CDC's Morbidity and Mortality Weekly Report publishes incidence and prevalence tables for nationally notifiable conditions for the reporting of case notification data from 57 reporting jurisdictions (50 states, 2 cities, and 5 territorial health departments) using the National Electronic Disease Surveillance System (NEDSS) umbrella of systems and including the National Electronic Telecommunications System for Surveillance (NETSS) and other surveillance data sources to NNDSS. Each year, the Council of State and Territorial Epidemiologists (CSTE) establishes the public health surveillance priorities and policies for the nation which are voted on by the Chief Epidemiologist in each U.S. State and Territory. In 2012, CSTE members voted to have Leptospirosis added to the CSTE List of Notifiable Conditions. In response to this CSTE position statement, the CDC Leptospirosis Program is requesting a change to NNDSS to include Leptospirosis on the NNDSS list so that reporting jurisdictions can start submitting core surveillance data to CDC. The annualized burden hours and cost to reporting jurisdictions to submit this data to CDC will not change significantly.

Type of respondents | Number of respondents | Number of responses per respondent | Average burden per response (in hours) | Total burden (in hours)
Weekly Reporting
States | 50 | 52 | 3 | 7,800
Territories | 5 | 52 | 1.5 | 390
Cities | 2 | 52 | 3 | 312
Annual Reporting
States | 50 | 1 | 16 | 800
Territories | 5 | 1 | 10 | 50
Cities | 2 | 1 | 16 | 32
Total |  |  |  | 9,384

Dated: October 2, 2012.
Ron A. Otten,
Director, Office of Scientific Integrity (OSI), Office of the Associate Director for Science (OADS), Office of the Director, Centers for Disease Control and Prevention.

[FR Doc. 2012-24756 Filed 10-5-12; 8:45 am]

BILLING CODE 4163-18-P